DEPARTMENT OF AGRICULTURE

Submission for OMB Review; Comment Request

August 23, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: The Assessment of Contribution of an Interview to SNAP Eligibility and Benefit Determination Study

OMB Control Number: 0584-NEW.

Summary of Collection: The Food and Nutrition Service (FNS) seeks approval to conduct data collection as part of the Assessment of the Contributions of an Interview to Supplemental Nutrition Assistance Program (SNAP) Eligibility and Benefit Determinations. The overall aid of this evaluation is to examine the impact of eliminating client interviews at SNAP certification and recertification. A central feature of the changes is a waiver that allows States to conduct the in-person eligibility interview over the telephone. Many States have implemented this interview waiver. Some States have expressed interest in exploring alternative certification approaches that do not require conducting any interviews in the SNAP eligibility determination process. However, little data is available to access the impact of eliminating a certification interview on client access, customer service, and program integrity. The authority for this collection in contained in Section 17 [7 U.S.C. 2026](a)(1) of the Food and Nutrition Act of 2008.

Need and Use of the Information: The study will focus on the contribution of interviews of the determination of SNAP eligibility and benefits. The overall purpose of this study is to meet its research objectives with the precision necessary to inform future SNAP policy. It will quantify the impact of replacing the in-person interview with no interview and examine how this affects participation, efficiency, access, payment accuracy, and client satisfaction.

Description of Respondents: Individuals or households; not-for-profit institutions.

Number of Respondents: 4,358.

Frequency of Responses: Reporting: Other (one time).

Total Burden Hours: 1,082.

Ruth Brown,
Departmental Information Collection Clearance Officer.

[FR Doc. 2012-21199 Filed 8-27-12; 8:45 am]

BILLING CODE 3410-30-P